NUCLEAR REGULATORY COMMISSION

[License Number 37-00118-07]

Issuance of Environmental Assessment and Finding of No Significant Impact: Exemption

The U.S. Nuclear Regulatory Commission (NRC) is authorizing the University of Pennsylvania an exemption from 10 CFR 20.1301 to allow adults providing care to minors undergoing medical treatment with byproduct material during confinement to receive a dose up to 2 rems (0.02 Sievert (Sv) or 20 millisievert (mSv)) in a year.

Environmental Assessment

Identification of the Proposed Action

The University of Pennsylvania is licensed by the NRC for the medical use of byproduct material. This licensee has requested, in letters dated March 15, 2002, and April 11, 2002, that the NRC grant it an exemption to allow adults providing care to minors undergoing medical treatment with byproduct material during confinement to receive a dose up to 2 rems (0.02 Sv) in a year. 10 CFR 20.1301(a)(1) requires licensees to conduct operations so that the total effective dose equivalent to individual members of public does not exceed 0.1 rem (1 mSv) in a year. Notwithstanding this provision, a licensee may permit higher doses to visitors when visiting an individual who cannot be released from the hospital in accordance with 10 CFR 35.75. The regulations in 10 CFR 20.1301(c) permit licensees to allow visitors to receive an annual dose of up to 0.5 rem (5 mSv) provided the dose received does not exceed 0.5 rem (5 mSv) and the authorized user has determined before the visit that it is appropriate.

The University of Pennsylvania (the University) requested this higher exposure for these adult caregivers for several reasons. The University indicated that, although these caregivers are not employees of the institutions covered by the license, they voluntarily provide essential assistance and support for a unique patient population. The adult caregivers not only provide comfort and company to the children, but also participate in many of the daily tasks for the children during their isolation. The physicians think that applying a lower dose limit to these caregivers could negatively impact patient treatment, overall patient outcome and could increase the risk to the patient. The licensee further stated that the presence of a familiar caregiver reassures and calms the anxious child. Therefore, restricting the access of these caregivers to the children during this time will increase the risk of the procedure for several reasons. Many small children become highly anxious and even combative if forced separation from these caregivers is mandated. This separation may require intravenous sedation, with the attendant risk of respiratory depression or other adverse effects. In its correspondence to NRC, the University will identify these caregivers and treat them as though they are radiation workers; they will receive the same training and monitoring as required of other radiation workers, including instructions in maintaining their doses as low as reasonably achievable. In addition, standard radiation protection practices of minimizing time, maximizing distance and use of shielding will be employed to the extent practicable.

Need for the Proposed Action

The exemption is needed so that the University can provide optimum medical treatment and care to minor patients receiving treatment using byproduct material. The higher allowed exposure limit to these adult caregivers for minor patients allows for a more positive overall outcome and lower risk to the patient.

Environmental Impacts of the Proposed Action

There will be no significant environmental impact or undue hazard to life or property from the proposed action due to the fact that no material is being released into the environment and all of the operations involving the byproduct material will follow normal operating procedures followed prior to the request for the exemption.

During operations, the radiation dose rates from the minor patient will not be different than occurs normally for the prescribed medical treatment. The doses to the adult caregiver could be higher than doses allowed for members of the public by 10 CFR 20.1301 as a result of the closer proximity to the minor patient necessary to allow participation in many of the daily tasks for the children during their isolation. The University indicated it will identify these caregivers and treat them as though they are radiation workers; they will receive the same training and monitoring as required of other radiation workers, including instructions in maintaining their doses as low as reasonably achievable. In addition, standard radiation protection practices of minimizing time, maximizing distance and use of shielding will be employed to the extent practicable.

Alternatives to the Proposed Action

As required by section 102(2)(E) of NEPA (42 U.S.C. 4322(2)(E)), possible alternatives to the final action have been considered. The only alternative is to deny the exemption. This option would not produce a substantial gain in protecting the human environment. University employee caregivers would be proving the care that will be provided by the family adult caregiver. Allowing the family adult caregiver to perform some of the minor patient care tasks improves the outcome of the treatment.

Alternative Use of Resources

No alternative use of resources was considered due to the reasons stated above.

Agencies and Persons Consulted

NRC consulted the Commonwealth of Pennsylvania, Department of Environmental Protection, Bureau of Radiation Protection regarding this matter. The Commonwealth of Pennsylvania has no objection to NRC approval of the proposed exemption request or the conclusions of this environmental assessment.

Identification of Sources Used

Letters from the University to NRC, Region I, dated March 15, 2002, and April 11, 2002.

Finding of No Significant Impact

The environmental impacts of the proposed action have been reviewed in accordance with the requirements set forth in 10 CFR part 51. Based on the foregoing environmental assessment, the Commission finds that the proposed action of granting the exemption from 10 CFR 20.1301 will not significantly impact the quality of the human environment. Accordingly, the Commission has determined that an environmental impact statement for the proposed exemption is not warranted.

Further Information: The request for an exemption was docketed under 10 CFR part 20, License Number 37-00118-07. For further details with respect to this action, see the exemption request letters dated March 15, 2002, and April 11, 2002. The NRC maintains an Agencywide Documents Access and Management System (ADAMS) which provides text and image files of NRC's public documents. These documents may be accessed through the NRC Public Electronic Reading Room on the Internet at http://nrc.gov/NRC/ADAMS/index.html. If you do not have access to ADAMS or if there are problems in accessing documents located in ADAMS, contact the NRC Public Document Room Reference staff at 1-800-397-4209, (301) 415-4737, or by e-mail to pdr@nrc.gov.

Dated in Rockville, Maryland, this 12th day of December, 2002.
For the Nuclear Regulatory Commission.
Thomas H. Essig,
Chief, Material Safety and Inspection Branch, Division of Industrial and Medical Nuclear Safety, Office of Nuclear Material Safety and Safeguards.

[FR Doc. 02-32246 Filed 12-20-02; 8:45 am]

BILLING CODE 7590-01-P